DEPARTMENT OF ENERGY

Federal Energy Regulatory Commission

Combined Notice of Filings

Take notice that the Commission has received the following Natural Gas Pipeline Rate and Refund Report filings:

Filings Instituting Proceedings

Docket Numbers: RP14-1053-000.

Applicants: Equitrans, L.P.

Description: Refund Report—Peoples Rates Effective 3-1-2014.

Filed Date: 7/18/14.

Accession Number: 20140718-5016.

Comments Due: 5 p.m. ET 7/30/14.

Docket Numbers: RP14-1112-000.

Applicants: Equitrans, L.P.

Description: Negotiated Rate Service Agreement—Amend Exhibit A—PDCM to be effective 4/1/2014.

Filed Date: 7/18/14.

Accession Number: 20140718-5043.

Comments Due: 5 p.m. ET 7/30/14.

Docket Numbers: RP14-1113-000.

Applicants: MIGC LLC.

Description: MIGC LLC Fuel Filing to be effective 8/1/2014.

Filed Date: 7/18/14.

Accession Number: 20140718-5129.

Comments Due: 5 p.m. ET 7/30/14.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP13-1031-008.

Applicants: Trailblazer Pipeline Company LLC.

Description: Report of Refunds.

Filed Date: 7/18/14.

Accession Number: 20140718-5112.

Comments Due: 5 p.m. ET 7/30/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2014.
Nathaniel J. Davis, Sr.,
Deputy Secretary.

[FR Doc. 2014-17546 Filed 7-24-14; 8:45 am]

BILLING CODE 6717-01-P